SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: January 1-31, 2023.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and (f) for the time period specified above.

Water Source Approval—Issued Under 18 CFR 806.22(f):

1. BKV Operating, LLC; Pad ID: Mirabelli Pad 1-1H; ABR-201008138.R2; Washington Township, Wyoming County, Pa.; Consumptive Use of Up to 5.0000 mgd; Approval Date: January 18, 2023.

2. Blackhill Energy LLC; Pad ID: TYLER Pad; ABR-201008153.R2; Springfield Township, Bradford County, Pa.; Consumptive Use of Up to 4.9900 mgd; Approval Date: January 18, 2023.

3. Chesapeake Appalachia, L.L.C.; Pad ID: Phillips; ABR-201010050.R2; Elkland Township, Sullivan County, Pa.; Consumptive Use of Up to 7.5000 mgd; Approval Date: January 18, 2023.

4. Coterra Energy Inc.; Pad ID: SmithR P4; ABR-202301001; Springville Township, Susquehanna County, Pa.; Consumptive Use of Up to 5.0000 mgd; Approval Date: January 18, 2023.

5. Pennsylvania General Energy Company, L.L.C.; Pad ID: COP Tract 726 Pad D; ABR-202301004; Plunketts Creek Township, Lycoming County, Pa.; Consumptive Use of Up to 4.5000 mgd; Approval Date: January 18, 2023.

6. S.T.L. Resources, LLC; Pad ID: Bergey 1; ABR-201009056.R2; Gaines Township, Tioga County, Pa.; Consumptive Use of Up to 4.9900 mgd; Approval Date: January 18, 2023.

7. S.T.L. Resources, LLC; Pad ID: Marshlands H. Bergey Unit #1; ABR-20091230.R2; Gaines Township, Tioga County, Pa.; Consumptive Use of Up to 4.9900 mgd; Approval Date: January 18, 2023.

8. S.T.L. Resources, LLC; Pad ID: Paul 906 808 Pad; ABR-202301002; West Branch Township, Potter County, Pa.; Consumptive Use of Up to 5.0000 mgd; Approval Date: January 18, 2023.

9. S.T.L. Resources, LLC; Pad ID: Thomas 808 Pad; ABR-202301003; Elk Township, Tioga County, Pa.; Consumptive Use of Up to 5.0000 mgd; Approval Date: January 18, 2023.

10. Blackhill Energy LLC; Pad ID: GRIPPIN A Pad; ABR-201210015.R2; Springfield Township, Bradford County, Pa.; Consumptive Use of Up to 4.9900 mgd; Approval Date: January 23, 2023.

11. Blackhill Energy LLC; Pad ID: KINGSLY E Pad; ABR-201210016.R2; Springfield Township, Bradford County, Pa.; Consumptive Use of Up to 4.9900 mgd; Approval Date: January 23, 2023.

12. Chesapeake Appalachia, L.L.C.; Pad ID: Gemm; ABR-201010049.R2; Litchfield Township, Bradford County, Pa.; Consumptive Use of Up to 7.5000 mgd; Approval Date: January 23, 2023.

13. Chesapeake Appalachia, L.L.C.; Pad ID: Grant; ABR-201010051.R2; Smithfield Township, Bradford County, Pa.; Consumptive Use of Up to 7.5000 mgd; Approval Date: January 23, 2023.

14. Chesapeake Appalachia, L.L.C.; Pad ID: Juser; ABR-201010065.R2; Rush Township, Susquehanna County, Pa.; Consumptive Use of Up to 7.5000 mgd; Approval Date: January 23, 2023.

15. Chesapeake Appalachia, L.L.C.; Pad ID: Mehalick Drilling Pad; ABR-201210018.R2; Cherry Township, Sullivan County, Pa.; Consumptive Use of Up to 7.5000 mgd; Approval Date: January 23, 2023.

16. Chesapeake Appalachia, L.L.C.; Pad ID: Tague West Drilling Pad; ABR-201210012.R2; Lemon Township, Wyoming County, Pa.; Consumptive Use of Up to 7.5000 mgd; Approval Date: January 23, 2023.

17. Chesapeake Appalachia, L.L.C.; Pad ID: Teeter Drilling Pad; ABR-201210013.R2; Smithfield Township, Bradford County, Pa.; Consumptive Use of Up to 7.5000 mgd; Approval Date: January 23, 2023.

18. Repsol Oil & Gas USA, LLC; Pad ID: UPHAM (05 129) R; ABR-201010032.R2; Pike Township, Bradford County, Pa.; Consumptive Use of Up to 6.0000 mgd; Approval Date: January 23, 2023.

19. Seneca Resources Company, LLC; Pad ID: Zimmer 586; ABR-201010042.R2; Covington Township, Tioga County, Pa.; Consumptive Use of Up to 4.0000 mgd; Approval Date: January 23, 2023.

20. Chesapeake Appalachia, L.L.C.; Pad ID: Crystal; ABR-201011009.R2; North Towanda Township, Bradford County, Pa.; Consumptive Use of Up to 7.5000 mgd; Approval Date: January 25, 2023.

21. Chesapeake Appalachia, L.L.C.; Pad ID: Drake; ABR-201010066.R2; Litchfield Township, Bradford County, Pa.; Consumptive Use of Up to 7.5000 mgd; Approval Date: January 25, 2023.

22. Chesapeake Appalachia, L.L.C.; Pad ID: Gary; ABR-201012019.R2; Rush Township, Susquehanna County, Pa.; Consumptive Use of Up to 7.5000 mgd; Approval Date: January 25, 2023.

23. Chesapeake Appalachia, L.L.C.; Pad ID: Shores; ABR-201010064.R2; Sheshequin Township, Bradford County, Pa.; Consumptive Use of Up to 7.5000 mgd; Approval Date: January 25, 2023.

24. Repsol Oil & Gas USA, LLC; Pad ID: HARVEY (05 073) M; ABR-201011031.R2; Orwell Township, Bradford County, Pa.; Consumptive Use of Up to 6.0000 mgd; Approval Date: January 25, 2023.

25. Repsol Oil & Gas USA, LLC; Pad ID: NEVILLE (05 028) V; ABR-201011033.R2; Warren Township, Bradford County, Pa.; Consumptive Use of Up to 6.0000 mgd; Approval Date: January 25, 2023.

26. Seneca Resources Company, LLC; Pad ID: SGL 90C Pad; ABR-201011024.R2; Lawrence Township, Clearfield County, Pa.; Consumptive Use of Up to 4.0000 mgd; Approval Date: January 25, 2023.

27. SWN Production Company, LLC; Pad ID: Bolles South Well Pad; ABR-201210017.R2; Franklin Township, Susquehanna County, Pa.; Consumptive Use of Up to 4.0000 mgd; Approval Date: January 25, 2023.

28. Chesapeake Appalachia, L.L.C.; Pad ID: Hartz; ABR-201012039.R2; Ulster Township, Bradford County, Pa.; Consumptive Use of Up to 7.5000 mgd; Approval Date: January 30, 2023.

29. Chesapeake Appalachia, L.L.C.; Pad ID: Slattery; ABR-201211004.R2; Cherry Township, Sullivan County, Pa.; Consumptive Use of Up to 7.5000 mgd; Approval Date: January 30, 2023.

30. EQT ARO LLC; Pad ID: Ann C Good Pad B; ABR-201011047.R2; Cogan House Township, Lycoming County, Pa.; Consumptive Use of Up to 4.0000 mgd; Approval Date: January 30, 2023.

31. EQT ARO LLC; Pad ID: Larry's Creek F&G Pad F; ABR-201211006.R2; Mifflin Township, Lycoming County, Pa.; Consumptive Use of Up to 4.0000 mgd; Approval Date: January 30, 2023.

32. Chesapeake Appalachia, L.L.C.; Pad ID: Epler; ABR-201011041.R2; Albany Township, Bradford County, Pa.; Consumptive Use of Up to 7.5000 mgd; Approval Date: January 31, 2023.

33. Chesapeake Appalachia, L.L.C.; Pad ID: Keir; ABR-201012002.R2; Sheshequin Township, Bradford County, Pa.; Consumptive Use of Up to 7.5000 mgd; Approval Date: January 31, 2023.

34. Chesapeake Appalachia, L.L.C.; Pad ID: Mobear; ABR-201012006.R2; Wilmot Township, Bradford County, Pa.; Consumptive Use of Up to 7.5000 mgd; Approval Date: January 31, 2023.

35. Chesapeake Appalachia, L.L.C.; Pad ID: Roeber; ABR-201011037.R2; Wyalusing Township, Bradford County, Pa.; Consumptive Use of Up to 7.5000 mgd; Approval Date: January 31, 2023.

36. Chesapeake Appalachia, L.L.C.; Pad ID: Roland; ABR-201012021.R2; Wilmot Township, Bradford County, Pa.; Consumptive Use of Up to 7.5000 mgd; Approval Date: January 31, 2023.

37. Chesapeake Appalachia, L.L.C.; Pad ID: SGL 289A; ABR-201012015.R2; West Burlington Township, Bradford County, Pa.; Consumptive Use of Up to 7.5000 mgd; Approval Date: January 31, 2023.

38. Seneca Resources Company, LLC; Pad ID: Nestor 551; ABR-201011040.R2; Delmar Township, Tioga County, Pa.; Consumptive Use of Up to 4.0000 mgd; Approval Date: January 31, 2023.

Water Source Approval—Issued Under 18 CFR 806.22(e):

1. Kellogg Company—Lancaster Plant; ABR-202301005; East Hempfield Township, Lancaster County, Pa.; Consumptive Use of Up to 0.285 mgd; Approval Date: January 13, 2023.

Authority: Public Law 91-575, 84 Stat. 1509 et seq., 18 CFR parts 806 and 808.

Dated: February 6, 2023.
Jason E. Oyler,
General Counsel and Secretary to the Commission.

[FR Doc. 2023-02792 Filed 2-8-23; 8:45 am]

BILLING CODE 7040-01-P